DEPARTMENT OF HOUSING AND URBAN DEVELOPMENT

[Docket No. FR-4800-FA-26]

Announcement of Funding Award—FY 2003 Operation Lead Elimination Action Program (LEAP)

AGENCY: Office of the Secretary—Office of Healthy Homes and Lead Hazard Control, HUD.

ACTION: Announcement of funding awards.

SUMMARY: In accordance with section 102(a)(4)(C) of the Department of Housing and Urban Development Reform Act of 1989, this announcement notifies the public of additional funding decisions made by the Department in a competition for funding under the Operation Lead Elimination Action Program (LEAP) Notice of Funding Availability (NOFA). The purpose of the LEAP program is to leverage private sector resources to eliminate lead poisoning as a major public health threat to young children. This announcement contains the name and address of the award recipient and the amount of award.

FOR FURTHER INFORMATION CONTACT: John Baker, Department of Housing and Urban Development, Office of Healthy Homes and Lead Hazard Control, Room P3206, 451 Seventh Street SW., Washington, DC, 20410-3000, telephone (804) 771-2100 ext. 3765. Hearing- or speech-impaired persons may access the number above via TTY by calling the toll free Federal Information Relay Service at 1-800-877-8339.

SUPPLEMENTARY INFORMATION: The authority for making funding available under the LEAP NOFA is Division K of the Consolidated Appropriations Resolution of 2003, Pub. L. 108-7, approved February 20, 2003.

These awards were the result of a competition announced in a Federal Register NOFA published on April 25, 2003 (68 FR 21413). The purpose of the competition was to award grant funding of approximately $9,935,000 for grants and cooperative agreements for LEAP. Applications were scored and selected on the basis of selection criteria contained in that NOFA.

A total of $9,935,000 was awarded to seven grantees. In accordance with section 102(a)(4)(C) of the Department of Housing and Urban Development Reform Act of 1989 (103 Stat. 1987, 42 U.S.C. 3545), the Department is publishing the names, addresses, and amounts of this awards as follows:

Awardee | Address | Amount awarded
ACORN Associates | 1024 Elysian Fields Avenue New Orleans LA 70117 | $999,974.00
National Coalition for Lead Safe Kids | P.O. Box 535, Olney, MD 20830 | 1,265,415.00
Environmental Education Association | 2929 Main Street Buffalo, NY 14214 | 1,892,349.00
Middle Tennessee State University | 1500 Greenland Avenue Murfreesboro, TN 37132 | 1,871,740.00
Alliance to End Childhood Lead Poisoning | 227 Massachusetts Avenue, NE Suite 200, Washington, DC 20002 | 2,477,295.00
CONNOR Environmental Services | 1421 Clarkview Road, Suite 100, Baltimore, MD 21209 | 194,623.00
O.C. Community Development Council, Inc. | 12640 Knott Street Garden Grove, CA 92841 | 1,233,604.00

(The Catalog of Federal Domestic Assistance number for this program is 14.903.)
Dated: November 4, 2003.
Joseph F. Smith,
Deputy Director, Office of Healthy Homes and Lead Hazard Control.

[FR Doc. 03-29330 Filed 11-24-03; 8:45 am]

BILLING CODE 4210-70-P